DEPARTMENT OF COMMERCE

International Trade Administration

Initiation of Antidumping and Countervailing Duty Administrative Reviews

AGENCY: Import Administration, International Trade Administration, Department of Commerce.

ACTION: Notice of initiation of antidumping and countervailing duty administrative reviews.

SUMMARY: The Department of Commerce (the Department) has received requests to conduct administrative reviews of various antidumping and countervailing duty orders and findings with November anniversary dates. In accordance with the Department's regulations, we are initiating those administrative reviews.

EFFECTIVE DATE: December 19, 2001.

FOR FURTHER INFORMATION CONTACT: Holly A. Kuga, Office of AD/CVD Enforcement, Import Administration, International Trade Administration, U.S. Department of Commerce, 14th Street and Constitution Avenue, NW., Washington, DC 20230, telephone: (202) 482-4737.

SUPPLEMENTARY INFORMATION:

Background

The Department has received timely requests, in accordance with 19 CFR 351.213(b)(2001), for administrative reviews of various antidumping and countervailing duty orders and findings with November anniversary dates.

Initiation of Reviews

In accordance with section 19 CFR 351.221(c)(1)(i), we are initiating administrative reviews of the following antidumping and countervailing duty orders and findings. We intend to issue the final results of these reviews not later than November 30, 2002.

| Period to be Reviewed
Antidumping Duty Proceedings
Republic of Korea: Circular Welded Non-Alloy Steel Pipe, A-580-809 | 11/1/00—10/31/01
Shinho Steel Co.
Mexico: Circular Welded Non-alloy Steel Pipe, A-201-805 | 11/1/00—10/31/01
Hysla, S.A. de C.V.
The People's Republic of China: Fresh Garlic,* A-570-831 | 11/1/00—10/31/01
Asia Pacific Express Company, Ltd.
CIF Transportation (HK) Company, Ltd.
Clipper Manufacturing Ltd.
Fook Huat Tong Kee Pte., Ltd./Taian Fook Huat Tong Kee Foods Co.
Foshan Foodstuffs Import & Export Company
Jinan Import & Export Corporation
Jinxiang Foreign Trade Corporation
Jinxiang Hong Chong Fruits & Vegetable Products Company, Ltd.
Qingdao Rui Sheng Food Company, Ltd.
Rich Shipping Company, Ltd.
Rizhao Hanxi Fisheries & Comprehensive Development Co., Ltd.
Shandong Commercial Group Corporation
Top Pearl Ltd.
Wo Hing (H.K.) Trading Co.
Zen Continental Company, Inc.
Zhejiang Materials Industry International Co., Ltd.
Golden Light Trading Company, Ltd.
Good Fate International
Phil-Sino International Trading Inc.
United Shipping Agency Company, Ltd.
* If one of the above named companies does not qualify for a separate rate, all other exporters of fresh garlic from the People's Republic of China who have not qualified for a separate rate are deemed to be covered by this review as part of the single PRC entity of which the named exporters are a part.
Countervailing Duty Proceedings
None.
Suspension Agreements
Ukraine: Certain Cut-to-Length Carbon Steel Plate, A-823-808 | 11/1/00—10/31/01

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 U.S.C. 1675(a)), and 19 CFR 351.221(c)(1)(i).

Dated: December 13, 2001.
Holly A. Kuga,
Senior Office Director, Group II, Office 4, Import Administration.

[FR Doc. 01-31257 Filed 12-18-01; 8:45 am]

BILLING CODE 3510-DS-P